FEDERAL COMMUNICATIONS COMMISSION

47 CFR Part 64

[CG Docket No. 17-59, WC Docket No. 17-97; DA 19-1312; FRS 16377]

Advanced Methods To Target and Eliminate Unlawful Robocalls, Call Authentication Trust Anchor

AGENCY: Federal Communications Commission.

ACTION: Notice.

SUMMARY: In this document, the Consumer and Governmental Affairs Bureau (Bureau), in consultation with the Wireline Competition Bureau (WCB) and Public Safety and Homeland Security Bureau (PSHSB), solicits input for the first staff report on call blocking, as directed by the Federal Communications Commission (FCC or Commission). The Bureau seeks data and other information on the availability and effectiveness of call-blocking tools offered to consumers, the impact of FCC actions on illegal calls, the impact of call blocking on 911 services and public safety, and any other information that may inform the Commission's analysis of the state of deployment of advanced methods and tools to eliminate illegal and unwanted calls.

DATES: Comments are due on or before January 29, 2020, and reply comments are due on or before February 28, 2020.

ADDRESSES: You may submit comments, identified by CG Docket No. 17-59 and WC Docket No. 17-97, by any of the following methods:

FCC's website: http://apps.fcc.gov/ecfs/. Follow the instructions for submitting comments.

Paper Mail: Parties who choose to file by paper must file an original and one copy of each filing. Filers must submit two additional copies for each additional docket or rulemaking number. Filings can be sent by hand or messenger delivery, by commercial overnight courier, or by first-class or overnight U.S. Postal Service mail. All filings must be addressed to the Commission's Secretary, Office of the Secretary, Federal Communications Commission.

People with Disabilities: Contact the FCC to request reasonable accommodations (accessible format documents, sign language interpreters, CART, etc.) by email: FCC504@fcc.gov or phone: 202-418-0530 or TTY: 202-418-0432.

For detailed instructions for submitting comments and additional information on the rulemaking process, see the SUPPLEMENTARY INFORMATION section of this document.

FOR FURTHER INFORMATION CONTACT: Karen Schroeder, Consumer Policy Division, CGB, at (202) 418-0654, email: Karen.Schroeder@fcc.gov.

SUPPLEMENTARY INFORMATION: This is a summary of the Commission's Public Notice, in CG Docket No. 17-59, WC Docket No. 17-97; document DA 19-1312, released on December 20, 2019. This matter shall be treated as a “permit-but-disclose” proceeding in accordance with the Commission's ex parte rules. 47 CFR 1.1200 et seq. Persons making oral ex parte presentations are reminded that memorandum summarizing the presentations must contain summaries of the substance of the presentations and not merely a listing of the subjects discussed. More than a one or two sentence description of the views and arguments presented is generally required. See 47 CFR 1.1206(b). Other rules pertaining to oral and written ex parte presentations in permit-but-disclose proceedings are set forth in § 1.1206(b) of the Commission's rules, 47 CFR 1.1206(b).

Synopsis

1. In June 2019, the FCC took action to further protect consumers from illegal and unwanted robocalls. The Commission also directed the Bureau, in consultation with WCB and PSHSB, to report on the implementation and effectiveness of blocking measures. The Commission specified that the Bureau address, among other things, the availability to consumers of call-blocking solutions, the effectiveness of various categories of call-blocking tools, and the impact of previous Commission rule changes to allow voice service providers to block calls from phone numbers on a Do-Not-Originate list and those that purport to be from invalid, unallocated, or unused numbers. The Commission also asked that the Bureau study information on the impact of call blocking on 911 and public safety.

2. In the Public Notice, the Bureau solicits input for the first staff report on call blocking.

3. Availability of Call-Blocking Tools. The Bureau seeks data and other information on the availability of call-blocking tools offered to consumers. What tools are available to consumers? Do voice service providers or others offer multiple versions of their tool from which consumers may choose? Are such tools offered on an opt-in basis or opt-out basis? Do the tools block calls at the network level, the device level, or elsewhere in the call path? Are such tools offered by a third party directly to the consumer or by the service provider? What fees, if any, do providers or third parties charge for these tools? What proportion of consumers subscribe to a provider that offers and/or enables call-blocking tools? How many subscribers avail themselves of the tools? Are new tools under development?

4. Effectiveness of Call-Blocking Tools. The Bureau seeks data and other information on the effectiveness of call-blocking tools offered to consumers. What are the most appropriate metrics to measure the effectiveness of call-blocking tools, e.g., by fraction of illegal calls blocked? How effective are available tools at blocking illegal and unwanted calls? What tools, if any, send an intercept message for blocked calls? How do blocking tools define false positives? What is the rate of false positives? How do the tools remedy false positives? What is the rate of false negatives (illegal or unwanted calls that reach consumers)? What is the number of illegal robocalls transiting the nation's phone system? How is that number determined?

5. Impact of FCC Actions. How have voice service providers responded to the Commission's actions to empower them to protect their customers from illegal calls, such as by blocking calls from phone numbers on a Do-Not-Originate list and those that purport to be from invalid, unallocated, or unused numbers? What initiatives have voice service providers implemented as a result of these and other actions by the Commission? Do voice service providers block Do-Not-Originate calls? Have consumers seen a corresponding reduction in scam calls from numbers on the Do-Not-Originate list, such as Internal Revenue Service and Social Security Administration numbers that unauthorized callers have fraudulently spoofed? Have voice service providers implemented the blocking of calls that purport to be from invalid, unallocated, or unused numbers? Do voice service providers offer opt-out call-blocking programs? If so, how many consumers have opted out? Do voice service providers offer opt-in white-list blocking? If so, how many consumers have requested such blocking?

6. Impact on 911 Services and Public Safety. The Bureau seeks data and other information on the impact of call blocking on 911 services and public safety. Are legitimate calls to or from emergency numbers, either 911 or public safety “administrative numbers,” ever blocked? Emergency call centers generally employ protocols by which they will call back a number when a 911 call is dropped or otherwise terminated without a resolution. Do voice service providers or others employ call-blocking tools that may purposefully or inadvertently block a call back from a public safety answering point? Is there a means to ensure call backs from public safety numbers are completed? How are blocked calls reported and resolved? Do public safety entities experience unwanted or illegal calls that interfere with their mission? Have voice service providers or others blocked unwanted calls at the request of state or local law enforcement? What processes, manual or automatic, do voice service providers or others use to facilitate blocking harassing calls to 911 or public safety administrative numbers? Do voice service providers or others perceive any legal impediments in the Commission's rules or otherwise to blocking such calls?

7. Other Relevant Information. Finally, the Bureau seeks comment on any other information that may inform the Commission's analysis of the state of deployment of advanced methods and tools to eliminate illegal and unwanted calls.

8. Confidential Treatment. Commenters seeking confidential treatment for all or part of their submissions should request such treatment. Where information could be competitively sensitive or could interfere with efforts to enforce compliance with the requirements of the Communications Act or the Commission's rules (e.g., by allowing unlawful callers to circumvent filtering mechanisms), providers and industry groups may aggregate information without attributing practices or data to individual entities. Commenters may provide links to publicly available data or include Excel spreadsheets when they file their comments. The Bureau requests both data for 2019 and projected data through June 2020, if available.

Federal Communications Commission.
Eliot Greenwald,
Deputy Chief, Disability Rights Office, Consumer and Governmental Affairs Bureau.

[FR Doc. 2019-28136 Filed 12-27-19; 8:45 am]

BILLING CODE 6712-01-P